DEPARTMENT OF HEALTH AND HUMAN SERVICES

[Document Identifier: OS-0990-New; 30-day notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OMB Desk Officer; via fax to 202-395-6974.

Proposed Project: Evaluation of HIV Prevention Program for Women—OMB No. 0990-New—Office on Women's Health (OWH).

Abstract: OWH is seeking a new clearance to conduct data collection activities associated with the three-year evaluation of HIV/AIDS prevention programs at minority institutions for college women. The evaluation will assess the effectiveness of gender-centered HIV prevention models employed to address the needs of college women attending six (6) Historically Black Colleges and Universities, four (4) Hispanic Serving Institutions, and two (2) Tribal Colleges and Universities. Evaluation data will assess the extent to which gender sensitive interventions employed by these institutions impact HIV/AIDS related knowledge, attitudes and risk behaviors. Results of the evaluation will identify the prevention outcomes for college women and the larger campus population. The program goals are to (1) identify effective methods to educate and increase awareness for prevention of HIV/AIDS and STD's; (2) develop capacity for young, minority women to address prevention education on campus; (3) establish partnerships and student organizations to increase health education, risk reduction, counseling, HIV/STD testing and (4) to ensure that the education is culturally and linguistically appropriate for young, minority women. HIV intervention recipients will complete a survey at pretest, post-test and follow-up that assesses their HIV/AIDS knowledge, risk behaviors and gender specific attitudes. Student data will be submitted on a quarterly basis. Peer facilitators/health educators will participate in a yearly interview and project implementation staff will participate in individual interviews twice during each program year that assesses their experiences with the program.

Estimated Annualized Burden Table
Forms (if necessary) | Type of respondent | Number of respondents | Number of responses per respondent | Average burden hours per response | Total burden hours
Prevention Education: Pre-test Questionnaire | Student | 660 | 1 | 20/60 | 220
Prevention Education: Post-test Questionnaire | Student | 660 | 1 | 20/60 | 220
Prevention Education: Follow-up | Student | 660 | 1 | 20/60 | 220
Process Interview: Program Directors | Program Directors | 14 | 2 | 1.5 | 42
Process Interview: Program Staff | Program Staff | 12 | 2 | 45/60 | 18
| Program Staff | 12 | 55 | 15/60 | 165
Process Interview: Peer Educators | Peer Educators | 50 | 1 | 30/60 | 25
Total |  |  |  |  | 910

Seleda Perryman,
Office of the Secretary, Paperwork Reduction Act Reports Clearance Officer.

[FR Doc. E8-21119 Filed 9-10-08; 8:45 am]

BILLING CODE 4150-33-P